DEPARTMENT OF ENERGY

Federal Energy Regulatory Commission

[Docket No. RM11-2-000]

Smart Grid Interoperability Standards; Notice of Docket Designation for Smart Grid Interoperability Standards

October 7, 2010.

1. The Energy Independence and Security Act of 2007 (EISA) ¹ lays out the policy of the United States with regard to modernization of the nation's electricity transmission and distribution system and directs the development of a framework to achieve interoperability of smart grid devices and systems, including protocols and model standards for information management.² EISA directs the National Institute of Standards and Technology (NIST) to coordinate the development of this framework. Once the Commission is satisfied that NIST's work has led to “sufficient consensus” on interoperability standards, EISA directs the Commission to “institute a rulemaking proceeding to adopt such standards and protocols as may be necessary to insure smart-grid functionality and interoperability in interstate transmission of electric power, and regional and wholesale electricity markets.” ³

¹ Public Law 110-140, 121 Stat. 1492 (2007).

² EISA 1305(a), to be codified at 15 U.S.C. 17385(a).

³ EISA 1305(d), to be codified at 15 U.S.C. 17385(d).

2. In August 2009, NIST launched a three-phase plan to expedite the development of smart grid interoperability standards. In the first phase, NIST led the smart grid community in a participatory public process to identify applicable standards, as well as priorities for additional standardization activities. In January 2010, NIST released a framework and roadmap that identified a number of standards that are applicable to the ongoing development of the smart grid.⁴ After further discussion with stakeholders and an analysis of the standards' cyber security protections, NIST has now identified five suites of standards that it states are ready for consideration by regulatory authorities. While the Commission has made no determination yet on whether “sufficient consensus” exists for these standards, the Commission is issuing this notice to designate the docket captioned above for a possible rulemaking proceeding pursuant to EISA section 1305(d).

⁴ Framework and Roadmap for Smart Grid Interoperability Standards, Release 1.0, NIST Special Publication 1108, January 2010, available at http://www.nist.gov/public_affairs/releases/upload/smartgrid_interoperability_final.pdf.

3. In accordance with the Federal Administrative Procedure Act,⁵ the Commission will issue a Notice of Proposed Rulemaking for comment before adopting any of the five suites of standards identified by NIST.

⁵ 5 U.S.C. 551-59; 701-06 (2006).

4. For the convenience of interested stakeholders, the Commission has placed NIST's announcement and descriptions of the standards that have been prepared by NIST in the record of this proceeding. These documents are available for review at the Commission in the Public Reference Room or may be viewed on the Commission's Web site under the above docket number at http://www.ferc.gov using the eLibrary link. For assistance, please contact FERC, Online Support at FERCOnlineSupport@ferc.gov or toll free at (866) 208-3676, or for TTY, contact (202) 502-8659.

Kimberly D. Bose,
Secretary.

[FR Doc. 2010-25965 Filed 10-14-10; 8:45 am]

BILLING CODE 6717-01-P